ENVIRONMENTAL PROTECTION AGENCY

[EPA-HQ-OPP-2015-0452; FRL-9933-46]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a July 28, 2015 Federal Register Notice of Receipt of Requests from the registrants listed in Table 2 of Unit II. to voluntarily cancel these product registrations. In the July 28, 2015 notice, EPA indicated that it would issue an order implementing the cancellations, unless the Agency received substantive comments within the 30-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective September 18, 2015.

FOR FURTHER INFORMATION CONTACT: Donna Kamarei, Antimicrobials Division (7510P), Office of Pesticide Programs, Environmental Protection Agency, 1200 Pennsylvania Ave. NW., Washington, DC 20460-0001; telephone number: (703) 347-0443; email address: kamarei.donna@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0452, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3 (7 U.S.C. 136a). These registrations are listed in sequence by registration number in Table 1 of this unit.

Table 1—Product Cancellations
EPA Registration No. | Product name | Chemical name
000499-00368 | Whitmire PT 2000 Green-Shield Horticultural Algicide, Disinfectant | Alkyl * dimethyl benzyl ammonium chloride * (60%C14, 30%C16, 5%C18, 5%C12).
000499-00482 | TC 192 | 1-Decanaminium, N-decyl-N,N-dimethyl-, chloride.
000499-00542 | TC-287 | Alkyl * dimethyl benzyl ammonium chloride * (60%C14, 30%C16, 5%C18, 5%C12).
000875-00109 | Quat-256 | Alkyl * dimethyl benzyl ammonium chloride * (60%C14, 30%C16, 5%C18, 5%C12), Alkyl * dimethyl ethylbenzyl ammonium chloride * (68%C12, 32%C14).
000875-00187 | D-Trol, Disinfectant, Sanitizer & Algaecide | Alkyl * dimethyl benzyl ammonium chloride * (60%C14, 30%C16, 5%C18, 5%C12), Alkyl * dimethyl ethylbenzyl ammonium chloride * (68%C12, 32%C14).
001007-00098 | Quat-A-Mone | Alkyl * dimethyl benzyl ammonium chloride * (60%C14, 30%C16, 5%C18, 5%C12), and Alkyl * dimethyl ethylbenzyl ammonium chloride * (68%C12, 32%C14).
001203-00041 | Delta Foremost 3066 ES Show-off Germicidal Concentrate | Alkyl * dimethyl benzyl ammonium chloride * (60%C14, 30%C16, 5%C18, 5%C12), and Alkyl * dimethyl ethylbenzyl ammonium chloride * (68%C12, 32%C14).
001258-01269 | Baquacil Premium Algaecide | Poly(oxy-1,2-ethanediyl(dimethylimino)-1,2-ethanediyl(dimethylimino)-1,2-ethanediyl dichloride).
001258-01335 | Vantocil NR 3.8 | Alkyl * dimethyl benzyl ammonium chloride * (50%C14, 40%C12, 10%C16).
001270-00184 | Zep Lemonex Germicidal Detergent | Alkyl * dimethyl benzyl ammonium chloride * (60%C14, 30%C16, 5%C18, 5%C12), and Alkyl * dimethyl ethylbenzyl ammonium chloride * (68%C12, 32%C14).
001270-00191 | Zep Venture | Alkyl * dimethyl benzyl ammonium chloride * (60%C14, 30%C16, 5%C18, 5%C12), and Alkyl * dimethyl ethylbenzyl ammonium chloride * (68%C12, 32%C14).
001270-00235 | Zep Bowl Shine | Alkyl * dimethyl benzyl ammonium chloride * (60%C14, 30%C16, 5%C18, 5%C12), and Alkyl * dimethyl ethylbenzyl ammonium chloride * (68%C12, 32%C14).
001677-00232 | Lonza SQ Sanitizer/Disinfectant | Alkyl * dimethyl benzyl ammonium chloride * (50%C14, 40%C12, 10%C16).
001706-00177 | Nalcon 7642 | Dialkyl * methyl benzyl ammonium chloride * (60%C14, 30%C16, 5%C18, 5% C12), and Alkyl * dimethyl benzyl ammonium chloride * (60%C14, 30%C16, 5%C18, 5%C12).
001839-00101 | CD 1.6 (D & F) Detergent/Disinfectant | Alkyl * dimethyl benzyl ammonium chloride * (60%C14, 30%C16, 5%C18, 5%C12), and Alkyl * dimethyl ethylbenzyl ammonium chloride * (68%C12, 32%C14).
001839-00103 | CD 3.2 (D & F) Detergent/Disinfectant | Alkyl * dimethyl benzyl ammonium chloride * (60%C14, 30%C16, 5%C18, 5%C12), Alkyl * dimethyl ethylbenzyl ammonium chloride * (68%C12, 32%C14).
001839-00146 | NP 1.8 D&F Detergent/Disinfectant | Alkyl * dimethyl benzyl ammonium chloride * (50%C14, 40%C12, 10%C16).
001839-00160 | BTC 885 Thickened Phosphoric Acid Germicidal Bowl Cleaner | Alkyl * dimethyl benzyl ammonium chloride * (50%C14, 40%C12, 10%C16).
002212-00016 | Elimstaph No. 2 | Alkyl * dimethyl benzyl ammonium chloride * (50%C14, 40%C12, 10%C16).
002296-00097 | Bacti-Chem General Type Detergent Cleaner-Disinfectant | Alkyl * dimethyl benzyl ammonium chloride * (60%C14, 30%C16, 5%C18, 5%C12).
002296-00107 | Lemon-Quat Disinfectant Cleaner | Alkyl * dimethyl benzyl ammonium chloride * (58%C14, 28%C16, 14%C12).
002296-00108 | Pine Quat | Alkyl * dimethyl benzyl ammonium chloride * (58%C14, 28%C16, 14%C12).
002296-00109 | Cherry-Quat | Alkyl * dimethyl benzyl ammonium chloride * (58%C14, 28%C16, 14%C12).
002724-00517 | Speer Germicidal Multi-Purpose Cleaner | Alkyl * dimethyl ethylbenzyl ammonium chloride * (68%C12, 32%C14), Alkyl * dimethyl benzyl ammonium chloride * (60%C14, 30%C16, 5%C18, 5%C12).
002724-00518 | Magic Guard Disinfectant/Sanitizer/Deodorizer | Alkyl * dimethyl ethylbenzyl ammonium chloride * (68%C12, 32%C14), Alkyl * dimethyl benzyl ammonium chloride * (60%C14, 30%C16, 5%C18, 5%C12).
002724-00519 | Magic Guard Cleaner/Disinfectant | Alkyl * dimethyl benzyl ammonium chloride * (60%C14, 30%C16, 5%C18, 5%C12), and Alkyl * dimethyl ethylbenzyl ammonium chloride * (68%C12, 32%C14).
002724-00562 | Magic Guard Lemon Odor Disinfectant-Deodorant-Cleaner | Alkyl * dimethyl benzyl ammonium chloride * (58%C14, 28%C16, 14%C12).
002935-00548 | Hyamine Disinfectant | Alkyl * dimethyl benzyl ammonium chloride * (50%C14, 40%C12, 10%C16).
003635-00278 | X-Cell 420 | Alkyl * dimethyl benzyl ammonium chloride * (60%C14, 30%C16, 5%C18, 5%C12), and Dialkyl * methyl benzyl ammonium chloride * (60%C14, 30%C16, 5%C18, 5%C12).
003862-00075 | Mint 7 | Alkyl * dimethyl benzyl ammonium chloride * (58%C14, 28%C16, 14%C12).
003862-00185 | Spur-Tex Disinfectant Cleaner-Deodorant | Alkyl * dimethyl benzyl ammonium chloride * (60%C14, 30%C16, 5%C18, 5%C12).
004822-00370 | S.C. Johnson Wax Toilet Duck | Alkyl * dimethyl benzyl ammonium chloride * (60%C14, 30%C16, 5%C18, 5%C12), and Alkyl * dimethyl ethylbenzyl ammonium chloride * (68%C12, 32%C14).
004822-00484 | BD1 | Alkyl * dimethyl benzyl ammonium chloride * (60%C14, 30%C16, 5%C18, 5%C12), and Alkyl * dimethyl ethylbenzyl ammonium chloride * (68%C12, 32%C14).
004822-00546 | Dexter 1 | Alkyl * dimethyl benzyl ammonium chloride * (60%C14, 30%C16, 5%C18, 5%C12), and Alkyl * dimethyl ethylbenzyl ammonium chloride * (68%C12, 32%C14).
004822-00577 | Rut Disinfectant Cleaner | Alkyl * dimethyl benzyl ammonium chloride * (60%C14, 30%C16, 5%C18, 5%C12), and Alkyl * dimethyl ethylbenzyl ammonium chloride * (68%C12, 32%C14).
005813-00031 | Pine Sol Household Cleaner Disinfectant | 1-Octanaminium, N,N-dimethyl-N-octyl-, chloride.
005813-00034 | Pine-Sol Multi-purpose Cleaner Disinfectant | 1-Octanaminium, N,N-dimethyl-N-octyl-, chloride.
005813-00035 | Pine-Sol Presto | 1-Octanaminium, N,N-dimethyl-N-octyl-, chloride.
005813-00059 | Clorox Disinfecting Spray III | Alkyl * dimethyl benzyl ammonium chloride * (60%C14, 30%C16, 5%C18, 5%C12), and Alkyl * dimethyl ethylbenzyl ammonium chloride * (68%C12, 32%C14).
005813-00067 | Clorox 409-R | 1-Octanaminium, N,N-dimethyl-N-octyl-, chloride, Alkyl * dimethyl benzyl ammonium chloride * (50%C14, 40%C12, 10%C16).
005813-00074 | Clorox TLC | 1-Octanaminium, N,N-dimethyl-N-octyl-, chloride, Alkyl * dimethyl benzyl ammonium chloride * (50%C14, 40%C12, 10%C16).
005813-00088 | Julia | Alkyl * dimethyl benzyl ammonium chloride * (60%C14, 30%C16, 5%C18, 5%C12), and Alkyl * dimethyl ethylbenzyl ammonium chloride * (68%C12, 32%C14).
005813-00097 | Brac | 1-Octanaminium, N,N-dimethyl-N-octyl-, chloride, and Alkyl * dimethyl benzyl ammonium chloride * (50%C14, 40%C12, 10%C16).
006836-00001 | Barquat LB-50 | Alkyl * dimethyl benzyl ammonium chloride * (65%C12, 25%C14, 10%C16).
006836-00011 | Barquat OJ-50 | Alkyl * dimethyl benzyl ammonium chloride * (60%C14, 25%C12, 15%C16).
006836-00031 | Lonza Sanitizer-Cleaner 45-7 | Alkyl * dimethyl benzyl ammonium chloride * (60%C14, 30%C16, 5%C18, 5%C12).
006836-00033 | Lonza Formulation 70-12 | Alkyl * dimethyl benzyl ammonium chloride * (50%C14, 40%C12, 10%C16).
006836-00035 | Barquat MX-80 | Alkyl * dimethyl benzyl ammonium chloride * (60%C14, 30%C16, 5%C18, 5%C12).
006836-00036 | Barquat MX-50 | Alkyl * dimethyl benzyl ammonium chloride * (60%C14, 30%C16, 5%C18, 5%C12).
006836-00047 | Barquat OJ-10 Swimming Pool Algaecide | Alkyl * dimethyl benzyl ammonium chloride * (60%C14, 25%C12, 15%C16).
006836-00055 | Barquat MB 80-10 | Alkyl * dimethyl benzyl ammonium chloride * (50%C14, 40%C12, 10%C16).
006836-00056 | Barquat 42-10 | Alkyl * dimethyl ethylbenzyl ammonium chloride * (50%C12, 30%C14, 17%C16, 3%C18), and Alkyl * dimethyl benzyl ammonium chloride * (60%C14, 30%C16, 5%C18, 5%C12).
006836-00069 | Lonza Barquat MX 80-10 | Alkyl * dimethyl benzyl ammonium chloride * (60%C14, 30%C16, 5%C18, 5%C12).
006836-00076 | Lonza Formulation S-23 | Alkyl * dimethyl benzyl ammonium chloride * (50%C14, 40%C12, 10%C16).
006836-00079 | 205M Water Treatment Microbiocide | Alkyl * dimethyl benzyl ammonium chloride * (50%C14, 40%C12, 10%C16).
006836-00080 | Bardac 203-MP | Alkyl * dimethyl benzyl ammonium chloride * (50%C14, 40%C12, 10%C16).
006836-00082 | Barquat OJ-80 | Alkyl * dimethyl benzyl ammonium chloride * (60%C14, 25%C12, 15%C16).
006836-00096 | Hyamine 10-X (Crystals) | Benzenemethanaminium, N,N-dimethyl-N-(2-(2-(methyl-4-(1,1,3,3-tetramethylbutyl)phenoxy)ethoxy)ethyl)-, chloride.
006836-00097 | Benzethonium Chloride USP Germicide Concentrate | Benzenemethanaminium, N,N-dimethyl-N-(2-(2-(4-(1,1,3,3-tetramethylbutyl)phenoxy)ethoxy)ethyl)-, chloride.
006836-00106 | Hyamine 3500 W/E-80% | Alkyl * dimethyl benzyl ammonium chloride * (50%C14, 40%C12, 10%C16).
006836-00155 | Bio-Quat 50-24 | Alkyl * dimethyl benzyl ammonium chloride * (61%C12, 23%C14, 11%C16, 2.5%C18 2.5%C10 and trace of C8).
006836-00160 | Bio Quat 50-35 | Alkyl * dimethyl benzyl ammonium chloride * (60%C14, 30%C16, 5%C18, 5%C12), and Alkyl * dimethyl ethylbenzyl ammonium chloride * (50%C12, 30%C14, 17%C16, 3%C18).
006836-00161 | Bio-Quat 80-24 for Manufacturing use only | Alkyl * dimethyl benzyl ammonium chloride * (61%C12, 23%C14, 11%C16, 2.5%C18 2.5%C10 and trace of C8).
006836-00166 | Bio-Guard M-15 Disinfectant | Alkyl * dimethyl benzyl ammonium chloride * (58%C14, 28%C16, 14%C12).
006836-00170 | Bio Quat T-501 | Alkyl * dimethyl benzyl ammonium chloride * (50%C14, 40%C12, 10%C16).
006836-00171 | Bio-Quat 80-28R | Alkyl * dimethyl benzyl ammonium chloride * (60%C14, 30%C16, 5%C18, 5%C12), and Alkyl * dimethyl ethylbenzyl ammonium chloride * (68%C12, 32%C14).
006836-00172 | Bio-Quat 50-36 | Alkyl * dimethyl benzyl ammonium chloride * (50%C14, 40%C12, 10%C16).
006836-00173 | Bio Quat 50-28R | Alkyl * dimethyl benzyl ammonium chloride * (60%C14, 30%C16, 5%C18, 5%C12), and Alkyl * dimethyl ethylbenzyl ammonium chloride * (68%C12, 32%C14).
006836-00174 | Bio Quat 80-36 | Alkyl * dimethyl benzyl ammonium chloride * (60%C14, 30%C16, 5%C18, 5%C12), and Alkyl * dimethyl ethylbenzyl ammonium chloride * (50%C12, 30%C14, 17%C16, 3%C18).
006836-00175 | Bio-Quat 80-35 | Alkyl * dimethyl benzyl ammonium chloride * (60%C14, 25%C12, 15%C16).
006836-00183 | Bio-Quat 50-60, Disinfectant, Fungicide, Algaecide | Alkyl * dimethyl benzyl ammonium chloride * (50%C14, 40%C12, 10%C16).
006836-00186 | Barquat 80-28RX | Alkyl * dimethyl benzyl ammonium chloride * (60%C14, 30%C16, 5%C18, 5%C12).
006836-00187 | Bio Quat 80-42 | Alkyl * dimethyl benzyl ammonium chloride * (60%C14, 30%C16, 5%C18, 5%C12).
006836-00188 | Bio Quat 50-42 | Alkyl * dimethyl benzyl ammonium chloride * (60%C14, 30%C16, 5%C18, 5%C12).
006836-00189 | Bio Quat 50-30 | Alkyl * dimethyl benzyl ammonium chloride * (50%C12, 30%C14, 17%C16, 3%C18).
006836-00190 | Bio Quat 50-25 | Alkyl * dimethyl benzyl ammonium chloride * (67%C12, 25%C14, 7%C16, 1%C8, C10, and C18).
006836-00191 | Barquat 50-65 | Decyl isononyl dimethyl ammonium chloride.
006836-00209 | Bardac 2180 | Decyl isononyl dimethyl ammonium chloride.
006836-00218 | Bardac RW-10 | Decyl isononyl dimethyl ammonium chloride.
006836-00219 | Bardac CW-10 | Decyl isononyl dimethyl ammonium chloride.
006836-00220 | Bardac CW-50 | Decyl isononyl dimethyl ammonium chloride.
006836-00221 | Bardac RW-50 | Alkyl * dimethyl benzyl ammonium chloride * (50%C14, 40%C12, 10%C16).
006836-00227 | Lonza Formulation DC-800 | Decyl isononyl dimethyl ammonium chloride.
006836-00228 | Bardac 2150 LA | Alkyl * dimethyl benzyl ammonium chloride * (50%C14, 40%C12, 10%C16).
006836-00230 | Jordaquat 350 | Alkyl * dimethyl benzyl ammonium chloride * (60%C14, 30%C16, 5%C18, 5%C12).
006836-00244 | CSP-46 Concentrate | Alkyl * dimethyl benzyl ammonium chloride * (67%C12, 25%C14, 7%C16, 1%C18).
006836-00285 | BarquaT 50-65A | Alkyl * dimethyl benzyl ammonium chloride * (50%C14, 40%C12, 10%C16).
006836-00294 | Bardac 255M | Alkyl * dimethyl benzyl ammonium chloride * (50%C14, 40%C12, 10%C16).
006836-00295 | Bardac 288M | Alkyl * dimethyl benzyl ammonium chloride * (50%C14, 40%C12, 10%C16).
006836-00298 | Barquat MB-40 Swimming Pool Algaecide | Alkyl * dimethyl benzyl ammonium chloride * (50%C14, 40%C12, 10%C16).
006836-00301 | Lonza Formulation FC-600 | Alkyl * dimethyl benzyl ammonium chloride * (50%C14, 40%C12, 10%C16).
006836-00320 | Lonza CQ Disinfectant Cleaner | Alkyl * dimethyl benzyl ammonium chloride * (60%C14, 30%C16, 5%C18, 5%C12), and Alkyl * dimethyl ethylbenzyl ammonium chloride * (50%C12, 30%C14, 17%C16, 3%C18).
006943-00001 | Kork Rub Cleaner Disinfectant | Alkyl * dimethyl benzyl ammonium chloride * (60%C14, 25%C12, 15%C16).
007364-00090 | Pool-Pal 500 Algaecide | Alkyl * dimethyl benzyl ammonium chloride * (50%C14, 40%C12, 10%C16).
008540-00003 | Formula No. 30-A | 1-Decanaminium, N-decyl-N,N-dimethyl-, chloride.
008540-00013 | Garratt Callahan Formula 35 | Benzenemethanaminium, N,N-dimethyl-N-(2-(2-(4-(1,1,3,3-tetramethylbutyl)phenoxy)ethoxy)ethyl)-, chloride.
008660-00061 | Vertagreen Algaecide | Alkyl * dimethyl benzyl ammonium chloride * (67%C12, 25%C14, 7%C16, 1%C18), and Dialkyl * methyl benzyl ammonium chloride * (60%C14, 30%C16, 5%C18, 5%C12), and Alkyl * dimethyl benzyl ammonium chloride * (50%C14, 40%C12, 10%C16).
008959-00036 | Portatrine | Alkyl * dimethyl benzyl ammonium chloride * (58%C14, 28%C16, 14%C12).
009367-00005 | Emulso Germicidal Bowl Cleaner | Alkyl * dimethyl benzyl ammonium chloride * (50%C14, 40%C12, 10%C16).
009367-00045 | Mint-O | Alkyl * dimethyl benzyl ammonium chloride * (50%C14, 40%C12, 10%C16).
009386-00014 | AMA-3510 | Alkyl * dimethyl benzyl ammonium chloride * (60%C14, 30%C16, 5%C18, 5%C12), and Alkyl * dimethyl ethylbenzyl ammonium chloride * (50%C12, 30%C14, 17%C16, 3%C18).
009688-00056 | Deodorizing Disinfecting Cleaner I | Alkyl * dimethyl benzyl ammonium chloride * (60%C14, 30%C16, 5%C18, 5%C12), and Alkyl * dimethyl ethylbenzyl ammonium chloride * (50%C12, 30%C14, 17%C16, 3%C18).
009688-00057 | Chemsico Spray Disinfectant I with Bacteriostatic Action | Alkyl * dimethyl benzyl ammonium chloride * (60%C14, 30%C16, 5%C18, 5%C12), and Alkyl * dimethyl ethylbenzyl ammonium chloride * (68%C12, 32%C14).
009688-00135 | Chemsico Surface Disinfectant | Alkyl * dimethyl benzyl ammonium chloride * (61%C12, 23%C14, 11%C16, 5%C18).
010324-00002 | Maquat LC12S-80% | Alkyl * dimethyl benzyl ammonium chloride * (95%C14, 3%C12, 2%C16).
010324-00121 | Maquat 2855 | Alkyl * dimethyl benzyl ammonium chloride * (95%C14, 3%C12, 2%C16).
010324-00135 | Maquat MC1412-55% | Alkyl * dimethyl benzyl ammonium chloride * (65%C12, 25%C14, 10%C16).
010707-00008 | Magnacide 408 Industrial Bactericide | Alkyl * dimethyl benzyl ammonium chloride * (60%C14, 30%C16, 5%C18, 5%C12), and Alkyl * dimethyl ethylbenzyl ammonium chloride * (68%C12, 32%C14).
012204-00010 | Marcicide | Alkyl * dimethyl benzyl ammonium chloride * (58%C14, 28%C16, 14%C12).
037265-00042 | Pine Odor Disinfectant | Alkyl * dimethyl benzyl ammonium chloride * (58%C14, 28%C16, 14%C12).
037265-00049 | Strike Bac Lemon Odor Disinfectant | Alkyl * dimethyl benzyl ammonium chloride * (50%C14, 40%C12, 10%C16).
045309-00017 | Aquaclear Algaecide Formula-5 | Alkyl * dimethyl benzyl ammonium chloride * (60%C14, 25%C12, 15%C16).
045309-00032 | Free 'N Clear Swimming Pool Algaecide | Alkyl * dimethyl benzyl ammonium chloride * (60%C14, 30%C16, 5%C18, 5%C12), and Dialkyl * methyl benzyl ammonium chloride * (60%C14, 30%C16, 5%C18, 5%C12).
045309-00033 | Free N' Clear 10 Swimming Pool Algaecide | 1-Decanaminium, N-decyl-N,N-dimethyl-, chloride.
045309-00044 | Swim Free Concentrated Poly-Cide II Algaecide for Swimming Pools | Alkyl * dimethyl benzyl ammonium chloride * (60%C14, 25%C12, 15%C16).
047000-00087 | Super sweet Multi-Purpose Disinfectant | Alkyl * dimethyl ethylbenzyl ammonium chloride * (50%C12, 30%C14, 17%C16, 3%C18), and Alkyl * dimethyl benzyl ammonium chloride * (60%C14, 30%C16, 5%C18, 5%C12).
047371-00001 | Formulation HS-32Q | Alkyl * dimethyl benzyl ammonium chloride * (50%C14, 40%C12, 10%C16).
047371-00006 | Formulation HS-652Q | Alkyl * dimethyl benzyl ammonium chloride * (50%C14, 40%C12, 10%C16).
047371-00010 | FMB 451-8 Concentrated Germicide | Alkyl * dimethyl benzyl ammonium chloride * (50%C14, 40%C12, 10%C16).
047371-00011 | FMB 451-5 Quat Concentrated Germicide | Alkyl * dimethyl benzyl ammonium chloride * (60%C14, 30%C16, 5%C18, 5%C12), and Alkyl * dimethyl ethylbenzyl ammonium chloride * (50%C12, 30%C14, 17%C16, 3%C18).
047371-00013 | FMB 6075-8 Quat Concentrated Germicide | Alkyl * dimethyl benzyl ammonium chloride * (60%C14, 30%C16, 5%C18, 5%C12), and Alkyl * dimethyl ethylbenzyl ammonium chloride * (68%C12, 32%C14).
047371-00014 | FMB 3328-8 Quat | Alkyl * dimethyl benzyl ammonium chloride * (60%C14, 30%C16, 5%C18, 5%C12), and Alkyl * dimethyl ethylbenzyl ammonium chloride * (50%C12, 30%C14, 17%C16, 3%C18).
047371-00015 | FMB 6075-5 Quat Concentrated Germicide | Alkyl * dimethyl benzyl ammonium chloride * (60%C14, 30%C16, 5%C18, 5%C12).
047371-00016 | FMB 4500-5 Quat Concentrated Germicide | Alkyl * dimethyl benzyl ammonium chloride * (50%C14, 40%C12, 10%C16).
047371-00018 | FMB 451-28 Quat Concentrated Germicide | Alkyl * dimethyl ethylbenzyl ammonium chloride * (68%C12, 32%C14), and Alkyl * dimethyl benzyl ammonium chloride * (60%C14, 30%C16, 5%C18, 5%C12).
047371-00019 | FMB 3328-5 Quat Concentrated Germicide | Alkyl * dimethyl benzyl ammonium chloride * (60%C14, 30%C16, 5%C18, 5%C12), and Alkyl * dimethyl ethylbenzyl ammonium chloride * (68%C12, 32%C14).
047371-00020 | FMB 3328-28 Quat Concentrated Germicide | Alkyl * dimethyl benzyl ammonium chloride * (60%C14, 30%C16, 5%C18, 5%C12).
047371-00022 | FMB 4500-28 Quat | Alkyl * dimethyl benzyl ammonium chloride * (50%C14, 40%C12, 10%C16).
047371-00032 | Formulation HS-8451P | Alkyl * dimethyl benzyl ammonium chloride * (60%C14, 30%C16, 5%C18, 5%C12), and Alkyl * dimethyl ethylbenzyl ammonium chloride * (68%C12, 32%C14).
047371-00035 | Formulation HS-33A | Alkyl * dimethyl benzyl ammonium chloride * (50%C14, 40%C12, 10%C16).
047371-00046 | SAK-64L Cleaner | Alkyl * dimethyl benzyl ammonium chloride * (60%C14, 25%C12, 15%C16).
047371-00050 | Huntington FMB 65-15 Quat | Alkyl * dimethyl benzyl ammonium chloride * (60%C14, 25%C12, 15%C16).
047371-00051 | Lonza FMB-28 Quat | Alkyl * dimethyl benzyl ammonium chloride * (50%C14, 40%C12, 10%C16).
047371-00055 | WTM-1210 Water Treatment Microbiocide | Alkyl * dimethyl benzyl ammonium chloride * (50%C14, 40%C12, 10%C16).
047371-00061 | FMB 1210-100 Quat Concentrated Germicide | Alkyl * dimethyl benzyl ammonium chloride * (58%C14, 28%C16, 14%C12).
047371-00062 | FMB 28-28 Quat | Alkyl * dimethyl benzyl ammonium chloride * (60%C14, 30%C16, 5%C18, 5%C12), and Alkyl * dimethyl ethylbenzyl ammonium chloride * (68%C12, 32%C14).
047371-00063 | FMB 3328-D40 Quat Concentrated Germicide | Alkyl * dimethyl benzyl ammonium chloride * (60%C14, 25%C12, 15%C16).
047371-00069 | HS-65 Swimming Pool Algaecide | Alkyl * dimethyl benzyl ammonium chloride * (50%C14, 40%C12, 10%C16).
047371-00070 | Huntington FMB 504-5 Quat | Alkyl * dimethyl benzyl ammonium chloride * (50%C14, 40%C12, 10%C16).
047371-00073 | FMB 504-8 Quat | Alkyl * dimethyl benzyl ammonium chloride * (58%C14, 28%C16, 14%C12).
047371-00085 | FMB 28-15 Quat Concentrated Germicide | Alkyl * dimethyl ethylbenzyl ammonium chloride * (50%C12, 30%C14, 17%C16, 3%C18), and Alkyl * dimethyl benzyl ammonium chloride * (60%C14, 30%C16, 5%C18, 5%C12).
047371-00089 | Formulation AE-90 | Alkyl * dimethyl benzyl ammonium chloride * (60%C14, 25%C12, 15%C16).
047371-00092 | HS-65 Winterizing Algicide | Alkyl * dimethyl benzyl ammonium chloride * (50%C14, 40%C12, 10%C16).
047371-00101 | Formulation PA-1210 | Alkyl * dimethyl benzyl ammonium chloride * (50%C14, 40%C12, 10%C16).
047371-00102 | Formulation POQ 1210 | Alkyl * dimethyl ethylbenzyl ammonium chloride * (50%C12, 30%C14, 17%C16, 3%C18), and Alkyl * dimethyl benzyl ammonium chloride * (60%C14, 30%C16, 5%C18, 5%C12).
047371-00104 | Formulation HS-3328 | Alkyl * dimethyl benzyl ammonium chloride * (50%C14, 40%C12, 10%C16).
047371-00105 | Formulation POQ-451 | Alkyl * dimethyl benzyl ammonium chloride * (60%C14, 25%C12, 15%C16).
047371-00107 | Formulation HS-65 Swimming Pool Algaecide | Alkyl * dimethyl benzyl ammonium chloride * (50%C14, 40%C12, 10%C16).
047371-00149 | PA-1210 Humidifier Algaecide | Alkyl * dimethyl benzyl ammonium chloride * (50%C14, 40%C12, 10%C16).
047371-00153 | Formulation POQ451 (1:32) | Alkyl * dimethyl benzyl ammonium chloride * (50%C14, 40%C12, 10%C16).
047371-00161 | HS-451 Disinfectant/Sanitizer (50%) | Alkyl * dimethyl benzyl ammonium chloride * (50%C14, 40%C12, 10%C16).
047371-00181 | WTM-1210 Microbicide (33%) | Alkyl * dimethyl benzyl ammonium chloride * (60%C14, 30%C16, 5%C18, 5%C12), and Alkyl * dimethyl ethylbenzyl ammonium chloride * (68%C12, 32%C14).
048181-00001 | Hydrocide Germicide and Disinfectant | Alkyl * dimethyl benzyl ammonium chloride * (50%C14, 40%C12, 10%C16).
061282-00060 | Tryad | Alkyl * dimethyl benzyl ammonium chloride * (50%C14, 40%C12, 10%C16).
063664-00001 | QSP-451 Swimming Pool Algaecide | Alkyl * dimethyl benzyl ammonium chloride * (60%C14, 25%C12, 15%C16).
067262-00015 | Aqua Chem Balanced for Clean Pools Algaecide Liquid | Alkyl * dimethyl ethylbenzyl ammonium chloride * (68%C12, 32%C14), and Alkyl * dimethyl benzyl ammonium chloride * (60%C14, 30%C16, 5%C18, 5%C12).
067517-00017 | Quaternary Disinfectant | Alkyl * dimethyl benzyl ammonium chloride * (60%C14, 30%C16, 5%C18, 5%C12), and Alkyl * dimethyl ethylbenzyl ammonium chloride * (68%C12, 32%C14).
067517-00019 | Odor Control | Alkyl * dimethyl benzyl ammonium chloride * (50%C14, 40%C12, 10%C16).
067517-00039 | Annihilator Cleaner/Disinfectant | 1-Decanaminium, N,N-dimethyl-N-octyl-, chloride, and Alkyl * dimethyl benzyl ammonium chloride * (50%C14, 40%C12, 10%C16).
067619-00003 | CPPC Spray 1 | Alkyl * dimethyl benzyl ammonium chloride * (60%C14, 30%C16, 5%C18, 5%C12), and Alkyl * dimethyl ethylbenzyl ammonium chloride * (68%C12, 32%C14).
067619-00005 | CPPC PS Spray 19054 | 1-Decanaminium, N,N-dimethyl-N-octyl-, chloride, and Alkyl * dimethyl benzyl ammonium chloride * (50%C14, 40%C12, 10%C16).
067619-00022 | LEX | Alkyl * dimethyl benzyl ammonium chloride * (60%C14, 30%C16, 5%C18, 5%C12), and Alkyl * dimethyl ethylbenzyl ammonium chloride * (68%C12, 32%C14).
070627-00001 | Spray Disinfectant HG | Alkyl * dimethyl benzyl ammonium chloride * (60%C14, 30%C16, 5%C18, 5%C12), and Alkyl * dimethyl ethylbenzyl ammonium chloride * (68%C12, 32%C14).
070627-00059 | Antibacterial Scrubbing Bubbles Bathroom Cleaner | Alkyl * dimethyl benzyl ammonium chloride * (50%C14, 40%C12, 10%C16).
070627-00064 | Butcher's Bright Disinfectant Foam Cleaner | Alkyl * dimethyl benzyl ammonium chloride * (60%C14, 30%C16, 5%C18, 5%C12), and Alkyl * dimethyl ethylbenzyl ammonium chloride * (68%C12, 32%C14).
070627-00065 | Butcher's Clockwork Disinfectant Deodorizer Sanitizer | Alkyl * dimethyl benzyl ammonium chloride * (50%C14, 40%C12, 10%C16).
070627-00066 | Butcher's Bath Guard Acid Free Disinfectant Bathroom Cleaner | Alkyl * dimethyl benzyl ammonium chloride * (50%C14, 40%C12, 10%C16).
074655-00003 | Spectrum RX-36 | Alkyl * dimethyl benzyl ammonium chloride * (50%C14, 40%C12, 10%C16).
074655-00015 | Spectrum RX1000 | Alkyl * dimethyl benzyl ammonium chloride * (60%C14, 30%C16, 5%C18, 5%C12).
081002-00001 | Chlorine Free Splashes Algicide | Alkyl * dimethyl benzyl ammonium chloride * (60%C14, 30%C16, 5%C18, 5%C12), and Alkyl * dimethyl ethylbenzyl ammonium chloride * (68%C12, 32%C14).
090924-00008 | Bactron K-86 Microbiocide | Alkyl * dimethyl benzyl ammonium chloride * (60%C14, 30%C16, 5%C18, 5%C12), and Alkyl * dimethyl ethylbenzyl ammonium chloride * (68%C12, 32%C14).

Table 2 of this unit includes the names and addresses of record for all registrants of the products in Table 1 of this unit, in sequence by EPA company number. This number corresponds to the first part of the EPA registration numbers of the products listed in Table 1 of this unit.

Table 2—Registrants of Cancelled Products
EPA company No. | Company name and address
499 | BASF Corporation, 26 Davis Drive, Research Triangle Park, NC 27709.
875 | Diversey, Inc., 8310 16th Street, Sturtevant, WI 53177.
1007 | Zoetis, Inc., 333 Portage Street, Kalamazoo, MI 49007-4931.
1203 | Delta Foremost Chemical Corp., 3915 Air Park Street, Memphis, TN 38118.
1258 | Arch Chemicals, Inc., 1200 Bluegrass Lakes Parkway, Alpharetta, GA 30004.
1270 | Zep, Inc., 1259 Seaboard Industrial Blvd. NW., Atlanta, GA 30318.
1677 | Ecolab, Inc., 370 Wabasha Street North, St. Paul, MN 55102.
1706 | Nalco Company, 370 N. Wabasha Street, St. Paul, MN 55102-1390.
1839 | Stepan Company, 22 W. Frontage Rd., Northfield Rd., IL 60093.
2212 | Walter G. Legge Company, Inc., 444 Central Avenue, Peekskill, NY 10566.
2296 | National Chemical Laboratories, Inc., 401 N. 10th Street, Philadelphia, PA 19123.
2724 | Wellmark International, 1501 E. Woodfield Road, Suite 200 West, Schaumburg, IL 60173.
2935 | Wilbur-Ellis Company, 2903 S. Cedar Avenue, Fresno, CA 93725.
3635 | Dubois Chemicals, Inc., 3630 E. Kemper Road, Cincinnati, OH 45241.
3862 | ABC Compounding Co., Inc., P.O. Box 16247, Atlanta, GA 30321-0247.
4822 | S.C. Johnson & Son, Inc., 1525 Howe Street, Racine, WI 53403.
5813 | The Clorox Co., C/O PS&RC, P.O. Box 493, Pleasanton, CA 94566-0803.
6836 | Lonza, Inc., 90 Boroline Road, Allendale, NJ 07401.
6943 | Tate Soaps & Surfactants, Inc., P.O. Box 2543, Kokomo, IN 46904-2543.
7364 | GLB Pool & Spa, 90 Boroline Road, Allendale, NJ 07401.
8540 | Garratt-Callahan Co., 50-Ingold Road, Burlingame, CA 94010.
8660 | United Industries Corp., P.O. Box 142642, St. Louis, MO 63114-0642.
8959 | Applied Biochemists, 90 Boroline Road, Allendale, NJ 07401.
9367 | Theo Chem Laboratories, Inc., 7373 Rowlett Park Drive, Tampa, FL 33610-1141.
9386 | Kemira Chemicals, Inc., 1000 Parkwood Circle, Suite 500, Atlanta, GA 30339.
9688 | Chemsico, One Rider Trail Plaza Drive, Suite 300, Earth City, MO 63045, Lithia Springs, GA 30122.
10324 | Mason Chemical Company, 723 W. Algonquin Rd., Suite B, Arlington Heights, IL 60005.
10707 | Baker Petrolite, LLC., 12645 West Airport Blvd., Sugar Land, TX 77478.
12204 | Mid-American Research Chemical Corp., P.O. Box 927, Columbus, NE 68602-0927.
37265 | Genlabs, 5568 Schaefer Avenue, Chino, CA 91710.
45309 | Aqua Clear Industries, LLC., P.O. Box 2456, Suwanee, GA 30024-0980.
47000 | Chem-tech, LTD., 4515 Fleur Drive #303, Des Moines, IA 50321.
47371 | H & S Chemicals Division, 90 Boroline Road, Allendale, NJ 07401.
48181 | Hydrox Laboratories, 825 Tollgate Rd., Elgin, IL 60123.
63664 | Quality Swimming Pool Products Division, 90 Boroline Road, Allendale, NJ 07401.
67262 | Recreational Water Products, Inc., P.O. Box 1449, Buford, GA 30515-1449.
67517 | PM Resources, Inc., 3200 Meacham Boulevard, Fort Worth, TX 76137.
67619 | Clorox Professional Products Co. C/O PS&RC, P.O. Box 493, Pleasanton, CA 94566-0803.
70627 | Diversey, Inc., 8310 16th Street, Sturtevant, WI 53177.
74655 | Solenis, LLC., 7910 Baymeadows Way, Suite 100, Jacksonville, FL 32256.
81002 | Splashes, Inc., 90 Boroline Road, Allendale, NJ 07401.
90924 | Nalco Champion, 370 Wabasha Street North, St. Paul, MN 55102-1390.

III. Summary of Public Comments Received and Agency Response to Comments

During the public comment period provided, EPA received no comments in response to the July 28, 2015 Federal Register notice announcing the Agency's receipt of the requests for voluntary cancellations of products listed in Table 1 of Unit II.

IV. Cancellation Order

Pursuant to FIFRA section 6(f) (7 U.S.C. 136d(f)), EPA hereby approves the requested cancellations of the registrations identified in Table 1 of Unit II. Accordingly, the Agency hereby orders that the product registrations identified in Table 1 of Unit II. are canceled. The effective date of the cancellations that are the subject of this notice is September 18, 2015. Any distribution, sale, or use of existing stocks of the products identified in Table 1 of Unit II. in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 28, 2015 [(80 FR 44953) (FRL-9930-15)]. The comment period closed on August 27, 2015.

VI. Provisions for Disposition of Existing Stocks

Existing stocks are those stocks of registered pesticide products which are currently in the United States and which were packaged, labeled, and released for shipment prior to the effective date of the cancellation action. The existing stocks provisions for the products subject to this order are as follows.

B. For Products 10324-00002, 10324-00121, and 10324-00135

The registrant has requested to the Agency via letter to sell existing stocks for an 18-month period for products 10324-00002, 10324-00121, and 10324-00135. Because the Agency has identified no significant potential risk concerns associated with these pesticide products, upon cancellation of products 10324-00002, 10324-00121, and 10324-00135, EPA anticipates allowing the registrant to sell and distribute existing stocks of these products until March 20, 2017. Thereafter, the registrant is prohibited from selling or distributing these products listed in Table 1, except for export in accordance with FIFRA section 17 (7 U.S.C. 136o), or proper disposal. Persons other than the registrants may sell, distribute, or use existing stocks of products 10324-00002, 10324-00121, and 10324-00135 until existing stocks are exhausted, provided that such sale, distribution, or use is consistent with the terms of the previously approved labeling on, or that accompanied, the canceled products.

B. For All Other Products Identified in Table 1 of Unit II

The registrants may continue to sell and distribute existing stocks of all other products listed in Table 1 of Unit II. until September 19, 2016, which is 1-year after the publication of the Cancellation Order in the Federal Register. Thereafter, the registrants are prohibited from selling or distributing all other products listed in Table 1, except for export in accordance with FIFRA section 17 (7 U.S.C. 136o), or proper disposal. Persons other than the registrants may sell, distribute, or use existing stocks of all other products listed in Table 1 of Unit II. until existing stocks are exhausted, provided that such sale, distribution, or use is consistent with the terms of the previously approved labeling on, or that accompanied, the canceled products.

Authority: 7 U.S.C. 136 et seq.

Dated: September 9, 2015.
Steve Knizner,
Director, Antimicrobials Division, Office of Pesticide Programs.

[FR Doc. 2015-23473 Filed 9-17-15; 8:45 am]

BILLING CODE 6560-50-P